SECURITIES AND EXCHANGE COMMISSION

[Release Nos. 33-8589; 34-52047, File No. 265-23]

Advisory Committee on Smaller Public Companies

AGENCY: Securities and Exchange Commission.

ACTION: Notice of meeting of SEC Advisory Committee on Smaller Public Companies.

The Securities and Exchange Commission Advisory Committee on Smaller Public Companies is providing notice that it will hold a public meeting from 1 to 5:30 p.m. on each of Tuesday, August 9, 2005, and Wednesday, August 10, 2005, at The John Marshall Law School, Room 300, 315 South Plymouth Court, Chicago, Illinois. The meeting will be audio webcast on the Commission's Web site at http://www.sec.gov.

The agenda for the Tuesday, August 9, 2005, session includes hearing oral testimony and considering written statements that have been filed with the Advisory Committee in connection with the meeting. The oral testimony will focus on the costs and burdens imposed upon smaller public companies as a result of the Sarbanes-Oxley Act of 2002 and whether the costs and burdens are commensurate with the benefits to investors and the public. The agenda for the Wednesday, August 10, 2005, session of the meeting includes considering reports of subcommittees of the Advisory Committee and any recommendations proposed by subcommittees for adoption by the Advisory Committee. The Advisory Committee expects to consider reports of subcommittees on (1) defining the term “smaller public company” for purposes of delineating the scope of the Advisory Committee's work and scaling federal securities regulation based on smaller company size and (2) recommending extension of the compliance date for certain smaller public companies to meet requirements relating to reporting on the effectiveness of internal control over financial reporting, in accordance with Section 404 of the Sarbanes-Oxley Act.

DATES: Written statements should be received on or before August 2, 2005.

ADDRESSES: Written statements may be submitted by any of the following methods:

Electronic Statements

• Use the Commission's Internet submission form (http://www.sec.gov/info/smallbus/acspc.shtml); or

• Send an e-mail message to rule-comments@sec.gov. Please include File Number 265-23 on the subject line; or

Paper Statements

• Send paper statements in triplicate to Jonathan G. Katz, Committee Management Officer, Securities and Exchange Commission, 100 F Street, NE., Washington, DC 20549-9303.

All submissions should refer to File No. 265-23. This file number should be included on the subject line if e-mail is used. To help us process and review your statement more efficiently, please use only one method. The Commission staff will post all statements on the Advisory Committee's Web site (http://www.sec.gov./info/smallbus/acspc.shtml).

Statements also will be available for public inspection and copying in the Commission's Public Reference Room, 100 F Street, NE., Washington, DC 20549. All statements received will be posted without change; we do not edit personal identifying information from submissions. You should submit only information that you wish to make available publicly.

Persons wishing to provide oral testimony at the Tuesday, August 9, 2005, session should contact one of the SEC staff persons listed below by August 1, 2005, and submit a written statement by the deadline for written statements. Sufficient time may not be available to accommodate all those wishing to provide oral testimony. The Co-Chairs of the Advisory Committee have reserved the right to select witnesses and limit the time of witnesses permitted to testify.

FOR FURTHER INFORMATION CONTACT: Kevin M. O'Neill, Special Counsel, at (202) 551-3260, or William A. Hines, Special Counsel, at (202) 551-3320, Office of Small Business Policy, Division of Corporation Finance, Securities and Exchange Commission, 100 F Street, NE., Washington, DC 20549-3628.

SUPPLEMENTARY INFORMATION: In accordance with section 10(a) of the Federal Advisory Committee Act, 5 U.S.C.-App. 1, § 10(a), and the regulations thereunder, Gerald J. Laporte, Designated Federal Officer of the Committee, has ordered publication of this notice.

Dated: July 15, 2005.
Jonathan G. Katz,
Committee Management Officer.

[FR Doc. E5-3900 Filed 7-20-05; 8:45 am]

BILLING CODE 8010-01-P